DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. chapter 35). To request a copy of these documents, call the SAMHSA Reports Clearance Officer on (301) 443-7978.

Providers Survey for the Primary Care Research in Substance Abuse and Mental Health Services for the Elderly Cooperative Agreement Program—(New)—The Center for Mental Health Services (CMHS) of the Substance Abuse and Mental Health Services Administration (SAMHSA), in collaboration with the Center for Substance Abuse Prevention (CSAP) and the Center for Substance Abuse Treatment (CSAT), the Department of Veterans Affairs (VA), the Health Care Financing Administration (HCFA), and the Health Resources and Services Administration (HRSA), plans to conduct a survey of the service providers in the Aging, Mental Health/Substance Abuse and Primary Care Program. The purpose of this program is to assess alternative models of delivering and financing mental health and/or substance abuse services for older adults through primary health care. We hope to identify differences in outcomes between models referring to specialty mental health/substance abuse (MH/SA) services outside the primary care setting (Referral Model) and those providing such services within the primary care setting itself (Integrated Model).

SAMHSA is funding the Coordinating Center at the Harvard Medical School and six Study Sites, three of which are also HRSA Community Health Centers and receive additional service enhancement funding from HRSA. Furthermore, the VA is funding a Coordinating Center at the Miami VAMC and another five VA Study Sites, following the same protocol, making a total of 11 Study Sites, in 8 States throughout the country. In the intervention, over 50,000 individuals over age 65 are expected to be screened in primary care settings for mental health and substance abuse problems; those in need will receive treatment in either the referral model or the integrated model.

Specifically, the primary purpose of the Aging, MH/SA and Primary Care Program is to specify the conditions under which integrated and referral models are most effective in terms of access, adherence, consumer outcomes, and system outcomes. The multi-site study will focus on the impact of the treatment models on older adults with depression, anxiety, alcoholism, and alcohol abuse with other drugs, and combinations of the above disorders. It highlights prevention, early identification, early intervention, and brief treatment components of service models; it incorporates a consumer-oriented approach throughout all phases of the study, and cultural competence in all study instruments and methods for a variety of ethnic older populations. This study will seek to expand our knowledge, using the most rigorous available scientific methods available, by measuring the relative effectiveness of service models.

In this context, this study intends to evaluate the role of the providers in the treatment of these older adults with MH/SA disorders, both the Primary Care Providers (PCPs) and MH/SA Providers. Therefore, it will use a questionnaire called a Providers Survey to survey both PCPs and MH/SA Providers to determine their perceptions, attitudes and beliefs about providing these services to older adults under the two service delivery models.

Analysis of this information will assist SAMHSA in documenting communication patterns with, attitudes towards, and perceptions of older adult participants in the study, permitting some understanding of the provider-older adult interactions. In addition, there may be important differences between the integrated and referral service delivery models in the interaction between the PCP and MH/SA Providers. These two sets of interactions may, in turn, have a direct effect or moderating effect on the effectiveness of the service delivery models. Outside, formal comparison groups are not needed, as the main comparisons will be made of the integrated and referral models within each study site.

The 11 Study Sites expect to survey approximately 312 providers for this study, including 158 PCPs and 154 MH/SA Providers. The chart below summarizes complete burden for this project.

Respondent type | Number of respondents | Responses/ respondent | Average burden/ response (hours) | Annual burden (hours)
Primary Care Providers | 158 | 1 | 0.133 | 21
Mental Health/Substance Abuse Providers | 154 | 1 | 0.133 | 20
Total | 312 |  |  | 41

Written comments and recommendations concerning the proposed information collection should be sent within 30 days of this notice to: Stuart Shapiro, Human Resources and Housing Branch, Office of Management and Budget, New Executive Office Building, Room 10235, Washington, D.C. 20503.

Dated: April 16, 2001.
Richard Kopanda,
Executive Officer, SAMHSA.

[FR Doc. 01-9813 Filed 4-19-01; 8:45 am]

BILLING CODE 4162-20-P